NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives a corrected notice in regard to the scheduling of a meeting for the transaction of National Science Board business. The original notice appeared at 81 FR 41354, on June 24, 2016.

CORRECTED DATE AND TIME: Wednesday, June 29, 2016 at 2:00-3:00 p.m. EDT.

SUBJECT MATTER: NSB Chair's opening remarks; NSF remarks; discussion and Board action regarding the project budget for NEON; NSB Chair's closing remarks.

STATUS: Closed.

This meeting will be held by teleconference originating at the National Science Board Office, National Science Foundation, 4201 Wilson Blvd., Arlington, VA 22230.

Please refer to the National Science Board Web site (www.nsf.gov/nsb) for information or schedule updates, or contact: Ronald Campbell, (jrcampbe@nsf.gov), National Science Foundation, 4201 Wilson Blvd., Arlington, VA 22230.

Chris Blair,
Executive Assistant to the NSB Office.

[FR Doc. 2016-15540 Filed 6-27-16; 4:15 pm]

BILLING CODE 7555-01-P